DEPARTMENT OF COMMERCE

International Trade Administration

[A-570-929]

Small Diameter Graphite Electrodes from the People's Republic of China: Preliminary Results of Antidumping Duty Administrative Review and Partial Rescission; 2012-2013

AGENCY: Enforcement and Compliance, formerly Import Administration, International Trade Administration, Department of Commerce.

SUMMARY: The Department of Commerce (the Department) is conducting an administrative review of the antidumping duty order on small diameter graphite electrodes (graphite electrodes) from the People's Republic of China (PRC), covering the period February 1, 2012, through January 31, 2013. The Department has preliminarily determined that during the period of review (POR) certain companies covered by this review have made sales of subject merchandise at less than normal value, and that other companies are now part of the PRC-wide entity.¹ Interested parties are invited to comment on these preliminary results.

¹ Due to the closure of the Federal Government in Washington, DC on March 17, 2014, the Department reached this determination on the next business day (i.e., March 18, 2014).¹

DATES: Effective Date: March 24, 2014.

FOR FURTHER INFORMATION CONTACT: Dmitry Vladimirov or Michael A. Romani, AD/CVD Operations, Office I, Enforcement and Compliance, International Trade Administration, U.S. Department of Commerce, 14th Street and Constitution Avenue NW., Washington, DC 20230; telephone: (202) 482-0665 or (202) 482-0198, respectively.

Scope of the Order

The merchandise covered by the order includes all small diameter graphite electrodes with a nominal or actual diameter of 400 millimeters (16 inches) or less and graphite pin joining systems for small diameter graphite electrodes. Small diameter graphite electrodes and graphite pin joining systems for small diameter graphite electrodes that are subject to the order are currently classified under the Harmonized Tariff Schedule of the United States (HTSUS) subheadings 8545.11.0010, 3801.10, and 8545.11.0020. While the HTSUS subheadings are provided for convenience and customs purposes, the written description of the scope of the order is dispositive. A full description of the scope of the order is contained in the Preliminary Decision Memorandum.²

² See memorandum from Christian Marsh, Deputy Assistant Secretary for Antidumping and Countervailing Duty Operations, to Paul Piquado, Assistant Secretary for Enforcement and Compliance, “Decision Memorandum for Preliminary Results of Antidumping Duty Administrative Review: Small Diameter Graphite Electrodes from the People's Republic of China” dated concurrently with this notice (Preliminary Decision Memorandum), which is hereby adopted by this notice.

Partial Rescission of the Administrative Review

Based on the withdrawal of the requests for review and because the companies previously established their entitlement to a separate rate, we are rescinding this administrative review with respect to 17 companies named in the Initiation Notice ³ and listed in the attachment to this notice as Appendix II.

³ See Initiation of Antidumping and Countervailing Duty Administrative Reviews and Request for Revocation in Part, 78 FR 19197 (March 29, 2013) (Initiation Notice).

Preliminary Determination of No Shipments

UK Carbon and Graphite Co., Ltd. (UKCG) filed a timely “no shipment” certification stating that it had no exports, sales, or entries of subject merchandise during the POR and requested that we rescind the administrative review with respect to UKCG.⁴ We subsequently confirmed with U.S. Customs and Border Protection (CBP) the “no shipment” claim made by UKCG.⁵ Based on the certification provided by UKCG and our analysis of CBP information, we preliminarily determine that UKCG did not have any reviewable transactions during the POR. In addition, we find that, consistent with the refinement to our assessment practice in non-market economy cases, further discussed below, it is appropriate not to rescind the review in part in these circumstances but, rather, to complete the review with respect to UKCG and issue appropriate instructions to CBP based on the final results of the review.⁶

Methodology

⁴ See UKCG's letter, dated April 4, 2013.

⁵ See CBP message 3163308, dated June 12, 2013.

⁶ See Non-Market Economy Antidumping Proceedings: Assessment of Antidumping Duties, 76 FR 65694 (October 24, 2011); see also the “Assessment Rates” section below.

The Department has conducted this review in accordance with section 751(a)(1)(B) of the Tariff Act of 1930, as amended (the Act). For the Fangda Group,⁷ export prices have been calculated in accordance with section 772 of the Act. Because the PRC is a non-market economy (NME) within the meaning of section 771(18) of the Act, normal value has been calculated in accordance with section 773(c) of the Act. For a full description of the methodology underlying our conclusions, see the Preliminary Decision Memorandum. The Preliminary Decision Memorandum is a public document and is made available to the public via Enforcement and Compliance's Antidumping and Countervailing Duty Centralized Electronic Service System (IA ACCESS). IA ACCESS is available to registered users at https://iaaccess.trade.gov, and is available to all parties in the Department's Central Records Unit, located at Room 7046 of the main Department of Commerce building. In addition, a complete version of the Preliminary Decision Memorandum can be found at http://enforcement.trade.gov/frn/. The signed and the electronic versions of the Preliminary Decision Memorandum are identical in content.

⁷ The Fangda Group consists of Beijing Fangda Carbon Tech Co., Ltd., Chengdu Rongguang Carbon Co., Ltd., Fangda Carbon New Material Co., Ltd., Fushun Carbon Co., Ltd., and Hefei Carbon Co., Ltd. We refer to the Fangda Group as a single entity pursuant to 19 CFR 351.401(f)(1). See Small Diameter Graphite Electrodes From the People's Republic of China: Preliminary Determination of Sales at Less Than Fair Value, Postponement of Final Determination, and Affirmative Preliminary Determination of Critical Circumstances, in Part, 73 FR 49408, 49411-12 (August 21, 2008) (where we collapsed the individual members of the Fangda Group), unchanged in Final Determination of Sales at Less Than Fair Value and Affirmative Determination of Critical Circumstances: Small Diameter Graphite Electrodes from the People's Republic of China, 74 FR 2049 (January 14, 2009).

We determined that Fushun Jinly is not entitled to a separate rate and should be treated as part of the PRC entity. For a full discussion of the rationale underlying our decision, see Preliminary Decision Memorandum.

Preliminary Results of Review

The Department has determined that the following preliminary dumping margins exist for the period February 1, 2012, through January 31, 2013:

Company | Margin (percent)
Beijing Fangda Carbon Tech Co., Ltd | 21.16
Chengdu Rongguang Carbon Co., Ltd | 21.16
Fangda Carbon New Material Co., Ltd | 21.16
Fushun Carbon Co., Ltd | 21.16
Hefei Carbon Co., Ltd | 21.16
Xinghe County Muzi Carbon Co., Ltd | 21.16
Jilin Carbon Import and Export Company | 21.16
PRC-wide entity † | 159.64
† The PRC-wide entity includes the companies listed in Appendix III.

Disclosure and Public Comment

We intend to disclose the calculations performed to parties in this proceeding within five days of the date of publication of this notice in accordance with 19 CFR 351.224(b). Pursuant to 19 CFR 351.309(c), interested parties may submit case briefs not later than 30 days after the date of publication of this notice. Rebuttal briefs, limited to issues raised in the case briefs, may be filed not later than five days after the date for filing case briefs.⁸ Parties who submit case briefs or rebuttal briefs in this proceeding are encouraged to submit with each argument: (1) A statement of the issue; (2) a brief summary of the argument; and (3) a table of authorities.⁹

⁸ See 19 CFR 351.309(d).

⁹ See 19 CFR 351.309(c)(2) and (d)(2); see also 19 CFR 351.303 (for general filing requirements).

Pursuant to 19 CFR 351.310(c), interested parties who wish to request a hearing, or to participate if one is requested, must submit a written request to the Assistant Secretary for Enforcement and Compliance, filed electronically via IA ACCESS. An electronically filed document must be received successfully in its entirety by the Department's electronic records system, IA ACCESS, by 5 p.m. Eastern Standard Time within 30 days after the date of publication of this notice.¹⁰ Requests should contain: (1) The party's name, address and telephone number; (2) the number of participants; and (3) a list of issues to be discussed. Issues raised in the hearing will be limited to those raised in the respective case briefs.

¹⁰ See 19 CFR 351.310(c).

The Department intends to issue the final results of this administrative review, which will include the results of its analysis of issues raised in any such comments, within 120 days of publication of these preliminary results, pursuant to section 751(a)(3)(A) of the Act.

Deadline for Submission of Publicly Available Surrogate Value Information

In accordance with 19 CFR 351.301(c)(3)(ii), the deadline for submission of publicly available information to value factors of production under 19 CFR 351.408(c) is 20 days after the date of publication of these preliminary results.¹¹ In accordance with 19 CFR 351.301(c)(1), if an interested party submits factual information less than ten days before, on, or after (if the Department has extended the deadline), the applicable deadline for submission of such factual information, an interested party may submit factual information to rebut, clarify, or correct the factual information no later than ten days after such factual information is served on the interested party. However, the Department generally will not accept in the rebuttal submission additional or alternative surrogate value information not previously on the record, if the deadline for submission of surrogate value information has passed.¹² Furthermore, the Department generally will not accept business proprietary information in either the surrogate value submissions or the rebuttals thereto, as the regulation regarding the submission of surrogate values allows only for the submission of publicly available information.¹³

¹¹ This administrative review was initiated on March 29, 2013, prior to the effective date of May 10, 2013, set forth in Definition of Factual Information and Time Limits for Submission of Factual Information, 78 FR 21246 (April 10, 2013), establishing the new time limits for the submission of factual information to value factors of production.

¹² See, e.g., Glycine From the People's Republic of China: Final Results of Antidumping Duty Administrative Review and Final Rescission, in Part, 72 FR 58809 (October 17, 2007), and accompanying Issues and Decision Memorandum at Comment 2.

¹³ See 19 CFR 351.301(c)(3).

Assessment Rates

Upon issuing the final results of review, the Department will determine, and CBP shall assess, antidumping duties on all appropriate entries covered by this review.¹⁴ If a respondent's weighted-average dumping margin is above de minimis (i.e., 0.50 percent) in the final results of this review, we will calculate an importer-specific assessment rate on the basis of the ratio of the total amount of dumping calculated for the importer's examined sales and, where possible, the total entered value of those sales in accordance with 19 CFR 351.212(b)(1). Specifically, the Department will apply the assessment rate calculation method adopted in Final Modification for Reviews, i.e., on the basis of monthly average-to-average comparisons using only the transactions associated with that importer with offsets being provided for non-dumped comparisons.¹⁵ Where an importer- (or customer-) specific ad valorem rate is zero or de minimis, we will instruct CBP to liquidate appropriate entries without regard to antidumping duties.¹⁶

¹⁴ See 19 CFR 351.212(b)(1).

¹⁵ See Antidumping Proceeding: Calculation of the Weighted-Average Dumping Margin and Assessment Rate in Certain Antidumping Duty Proceedings; Final Modification, 77 FR 8101, 8103 (February 14, 2012) (Final Modification for Reviews).

¹⁶ See 19 CFR 351.106(c)(2).

The Department announced a refinement to its assessment practice in NME cases.¹⁷ Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.

¹⁷ For a full discussion of this practice, see Non-Market Economy Antidumping Proceedings: Assessment of Antidumping Duties, 76 FR 65694 (October 24, 2011).

The Department intends to issue appropriate assessment instructions directly to CBP 15 days after publication of the final results of review.

Cash Deposit Requirements

The following cash deposit requirements will be effective upon publication of the final results of this administrative review for shipments of the subject merchandise from the PRC entered, or withdrawn from warehouse, for consumption on or after the publication date, as provided by section 751(a)(2)(C) of the Act: (1) The cash deposit rate for Xinghe County Muzi Carbon Co., Ltd., and the five companies comprising the Fangda Group will be the rate established in the final results of this administrative review (except, if the rate is zero or de minimis, then no cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These cash deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are in accordance with sections 751(a)(1) and 777(i)(1) of the Act and 19 CFR 351.213.

Dated: March 18, 2014.
Paul Piquado,
Assistant Secretary for Enforcement and Compliance.

Appendix I

List of Topics Discussed in the Preliminary Decision Memorandum

1. Scope of the Order

2. Use of Adverse Facts Available

3. Non-Market Economy Country Status

4. Separate Rates

5. Rate for Non-Selected Companies

6. PRC-Wide Entity

7. Surrogate Country

8. Date of Sale

9. Fair-Value Comparison

10. Export Price

11. Normal Value

12. Factor Valuations

13. Use of Facts Available for Certain Factors of Production

14. Currency Conversion

Appendix II

Firms for which we are rescinding this administrative review because we received timely withdrawal requests and these companies have a separate rate from a prior segment.

1. Brilliant Charter Limited

2. Dalian Thrive Metallurgy Imp. & Exp. Co., Ltd.

3. GES (China) Co., Ltd.

4. Heilongjiang Xinyuan Carbon Products Co., Ltd.

5. Jiaozuo Zhongzhou Carbon Products Co., Ltd.

6. Linghai Hongfeng Carbon Products Co., Ltd.

7. Nantong Falter New Energy Co., Ltd.

8. Nantong River-East Carbon Co., Ltd.

9. Nantong River-East Carbon Joint Stock Co., Ltd.

10. Nantong Yangtze Carbon Corp. Ltd.

11. Qingdao Haosheng Metals Imp. & Exp. Co., Ltd.

12. Shanghai GC Co., Ltd.

13. Shanghai Jinneng International Trade Co., Ltd.

14. Shenyang Jinli Metals & Minerals Imp. & Exp. Co., Ltd.

15. Tianzhen Jintian Graphite Electrodes Co., Ltd.

16. Xinghe Xinyuan Carbon Products Co., Ltd.

17. Xuzhou Jianglong Carbon Manufacture Co., Ltd.

Appendix III

Firms for which we are not rescinding the review even though we received timely withdrawal requests because these companies are part of the PRC entity as they did not have a separate rate from a prior segment.

1. 5-Continent Imp. & Exp. Co., Ltd.

2. Acclcarbon Co., Ltd.

3. Allied Carbon (China) Co., Limited

4. Anssen Metallurgy Group Co., Ltd.

5. AMGL

6. Apex Maritime (Dalian) Co., Ltd.

7. Asahi Fine Carbon (Dalian) Co., Ltd.

8. Beijing Kang Jie Kong Cargo Agent Expeditors (Tianjin Branch)

9. Beijing Xinchengze Inc.

10. Beijing Xincheng Sci-Tech. Development Inc.

11. Carbon International

12. Chang Cheng Chang Electrode Co., Ltd.

13. Chengdelh Carbonaceous Elements Factory

14. Chengdu Jia Tang Corp.

15. China Industrial Mineral & Metals Group

16. China Shaanxi Richbond Imp. & Exp. Industrial Corp. Ltd.

17. China Xingyong Carbon Co., Ltd.

18. CIMM Group Co., Ltd.

19. Dalian Carbon & Graphite Corporation

20. Dalian Hongrui Carbon Co., Ltd.

21. Dalian Honest International Trade Co., Ltd.

22. Dalian Horton International Trading Co., Ltd.

23. Dalian LST Metallurgy Co., Ltd.

24. Dalian Oracle Carbon Co., Ltd.

25. Dalian Shuangji Co., Ltd.

26. Datong Carbon

27. Datong Carbon Plant

28. Datong Xincheng Carbon Co., Ltd.

29. Dechang Shida Carbon Co., Ltd.

30. De Well Container Shipping Corp.

31. Dewell Group

32. Dignity Success Investment Trading Co., Ltd.

33. Double Dragon Metals and Mineral Tools Co., Ltd.

34. Foset Co., Ltd.

35. Fushun Orient Carbon Co., Ltd.

36. Grameter Shipping Co., Ltd. (Qingdao Branch)

37. Guangdong Highsun Yongye (Group) Co., Ltd.

38. Guanghan Shida Carbon Co., Ltd.

39. Haimen Shuguang Carbon Industry Co., Ltd.

40. Handan Hanbo Material Co., Ltd.

41. Hanhong Precision Machinery Co., Ltd.

42. Hebei Long Great Wall Electrode Co., Ltd.

43. Heilongjiang Xinyuan Metacarbon Company Ltd.

44. Henan Sanli Carbon Products Co., Ltd.

45. Hopes (Beijing) International Co., Ltd.

46. Huanan Carbon Factory

47. Hunan Mec Machinery and Electronics Imp. & Exp. Corp.

48. Hunan Yinguang Carbon Factory Co., Ltd.

49. Inner Mongolia QingShan Special Graphite and Carbon Co., Ltd.

50. Inner Mongolia Xinghe County Hongyuan Electrical Carbon Factory

51. Jiang Long Carbon

52. Jiangsu Yafei Carbon Co., Ltd.

53. Jichun International Trade Co., Ltd. of Jilin Province

54. Jiexiu Juyuan Carbon Co., Ltd.

55. Jiexiu Ju-Yuan & Coaly Co., Ltd.

56. Jilin Songjiang Carbon Co., Ltd.

57. Jinneng Group Co., Ltd.

58. Jinyu Thermo-Electric Material Co., Ltd.

59. JL Group

60. Kaifeng Carbon Company Ltd.

61. KASY Logistics (Tianjin) Co., Ltd.

62. Kimwan New Carbon Technology and Development Co., Ltd.

63. Kingstone Industrial Group Ltd.

64. L & T Group Co., Ltd.

65. Laishui Long Great Wall Electrode Co., Ltd.

66. Lanzhou Ruixin Industrial Material Co., Ltd.

67. LH Carbon Factory of Chengde

68. Lianxing Carbon Qinghai Co., Ltd.

69. Lianxing Carbon Science Institute

70. Lianxing Carbon (Shandong) Co., Ltd.

71. Lianyungang Jinli Carbon Co., Ltd.

72. Lianyungang Jianglida Mineral Co., Ltd.

73. Liaoyang Carbon Co., Ltd.

74. Linyi County Lubei Carbon Co., Ltd.

75. Maoming Yongye (Group ) Co., Ltd.

76. MBI Beijing International Trade Co., Ltd.

77. Nantong Dongjin New Energy Co., Ltd.

78. Oracle Carbon Co., Ltd.

79. Orient (Dalian) Carbon Resources Developing Co., Ltd.

80. Orient Star Transport International, Ltd.

81. Peixian Longxiang Foreign Trade Co., Ltd.

82. Pingdingshan Coal Group

83. Pudong Trans USA, Inc. (Dalian Office)

84. Qingdao Grand Graphite Products Co., Ltd.

85. Quingdao Haosheng Metals & Minerals Imp. & Exp. Co., Ltd.

86. Qingdao Liyikun Carbon Development Co., Ltd.

87. Qingdao Likun Graphite Co., Ltd.

88. Qingdao Ruizhen Carbon Co., Ltd.

89. Ray Group Ltd.

90. Rex International Forwarding Co., Ltd.

91. Rt Carbon Co., Ltd.

92. Ruitong Carbon Co., Ltd.

93. Sea Trade International, Inc.

94. Seamaster Global Forwarding (China)

95. Shandong Basan Carbon Plant

96. Shandong Zibo Continent Carbon Factory

97. Shanghai Carbon International Trade Co., Ltd.

98. Shanghai P.W. International Ltd.

99. Shanghai Shen-Tech Graphite Material Co., Ltd.

100. Shanghai Topstate International Trading Co., Ltd.

101. Shanxi Datong Energy Development Co., Ltd.

102. Shanxi Foset Carbon Co., Ltd.

103. Shanxi Jiexiu Import and Export Co., Ltd.

104. Shanxi Jinneng Group Co., Ltd.

105. Shanxi Yunheng Graphite Electrode Co., Ltd.

106. Shida Carbon Group

107. Shijaizhuang Carbon Co., Ltd.

108. Shijiazhuang Huanan Carbon Factory

109. Sichuan 5-Continent Imp & Exp Co., Ltd.

110. Sichuan Dechang Shida Carbon Co., Ltd.

111. Sichuan Guanghan Shida Carbon Co., Ltd.

112. Sichuan Shida Carbon Co., Ltd.

113. Sichuan Shida Trading Co., Ltd.

114. Sichuan GMT International Inc.

115. Sinicway International Logistics Ltd.

116. SK Carbon

117. SMMC Group Co., Ltd.

118. Sure Mega (Hong Kong) Ltd.

119. Tangshan Kimwan Special Carbon & Graphite Co., Ltd.

120. Tengchong Carbon Co., Ltd.

121. T.H.I. Group (Shanghai), Ltd.

122. T.H.I. Global Holdings Corp.

123. Tianjin (Teda) Iron & Steel Trade Co., Ltd.

124. Tianjin Kimwan Carbon Technology and Development Co., Ltd.

125. Tianjin Yue Yang Industrial & Trading Co., Ltd.

126. Tielong (Chengdu) Carbon Co., Ltd.

127. United Carbon Ltd.

128. United Trade Resources, Inc.

129. Weifang Lianxing Carbon Co., Ltd.

130. World Trade Metals & Minerals Co., Ltd.

131. XC Carbon Group

132. Xinghe Xingyong Carbon Co., Ltd.

133. Xinyuan Carbon Co., Ltd.

134. Xuanhua Hongli Refractory and Mineral Company

135. Xuchang Minmetals & Industry Co., Ltd.

136. Xuzhou Carbon Co., Ltd.

137. Xuzhou Electrode Factory

138. Xuzhou Lianglong Carbon Manufacture Co., Ltd.

139. Yangzhou Qionghua Carbon Trading Ltd.

140. Yixing Huaxin Imp & Exp Co., Ltd.

141. Youth Industry Co., Ltd.

142. Zhengzhou Jinyu Thermo-Electric Material Co., Ltd.

143. Zibo Continent Carbon Factory

144. Zibo DuoCheng Trading Co., Ltd.

145. Zibo Lianxing Carbon Co., Ltd.

146. Zibo Wuzhou Tanshun Carbon Co., Ltd.

Companies that are now part of the PRC entity because they did not demonstrate in this review that they are entitled to a separate rate.

1. Fushun Jinly Petrochemical Carbon Co., Ltd.

2. Fangda Lanzhou Carbon Joint Stock Company Co., Ltd.

3. Jilin Carbon Graphite Material Co., Ltd.

4. Lanzhou Carbon Co., Ltd.

5. Lanzhou Carbon Import & Export Corp.

6. Lanzhou Hailong New Material Co.

7. Lanzhou Hailong Technology

8. Liaoning Fangda Group Industrial Co., Ltd.

9. Sinosteel Anhui Co., Ltd.

10. Sinosteel Corp.

11. Sinosteel Jilin Carbon Plant

12. Sinosteel Jilin Carbon Imp. & Exp. Co., Ltd.

13. Sinosteel Sichuan Co., Ltd.

[FR Doc. 2014-06399 Filed 3-21-14; 8:45 am]

BILLING CODE 3510-DS-P